DEPARTMENT OF THE INTERIOR

Bureau of Land Management

[NMNM 94899, NMNM 94902, NMNM 94903]

Notice of Proposed Withdrawal and Opportunity for Public Meeting; New Mexico

AGENCY: Bureau of Land Management, Interior.

ACTION: Notice.

SUMMARY: The United States Department of Agriculture, Forest Service, has filed applications to withdraw approximately 329.44 acres of National Forest System lands to protect the area and future investment of existing microwave electronic sites. This notice closes the National Forest System lands for up to 2 years from location and entry under the United States mining laws. The land will remain open to mineral leasing and to all other uses which may be made of National Forest System lands.

DATES: Comments must be received by March 6, 2002.

ADDRESSES: Comments should be sent to the U.S. Department of Agriculture, Forest Service, Cibola National Forest, 2113 Osuna Road, NE, Suite A, Albuquerque, New Mexico 87113-1001.

FOR FURTHER INFORMATION CONTACT: Sue McHenry, Cibola National Forest, 505-346-2650.

SUPPLEMENTARY INFORMATION: On April 12, 2001, the United States Department of Agriculture, Forest Service, filed applications to withdraw the following described National Forest System lands from location and entry under the United States mining laws, subject to valid existing rights:

1. NMNM 94899 (Microwave Electronic Site), New Mexico Principal Meridian, Cibola National Forest

T. 11 N., R. 7 W.,

Sec. 8, S½SE¼SW¼ and SW¼SW¼SE¼;

Sec. 17, W½NW¼NE¼, NE¼NW¼, N½SE¼NW¼, SW¼SE¼NW¼, and SE¼SW¼NW¼.

The area described contains 130 acres in Cibola County.

2. NMNM 94902 (Capilla Peak Electronic Site), New Mexico Principal Meridian

T. 5 N., R. 5 E.,

Sec. 3, W½ of lot 2, E½ of lot 3, E½W½ of lot 3, NE¼NW¼SW¼NE¼, W½W½SW¼NE¼, SE¼SE¼SW¼NW¼, E½SE¼NW¼, SW¼SE¼NW¼, N½NE¼NE¼SW¼, SW¼NE¼NE¼SW¼, NW¼NE¼SW¼, E½NE¼NW¼SW¼, and NW¼NE¼NW¼SW¼.

T. 6 N., R. 5 E.,

Sec. 34, E½SE¼SE¼SW¼ and W½SW¼SW¼SE¼.

The area described aggregates 131.94 acres in Torrance County.

3. NMNM 94903, East La Mosca Electronic Site, New Mexico Principal Meridian

T. 12 N., R. 7 W.,

Sec. 20, E½E½SE¼SE¼NE¼;

Sec. 21, W½W½SW¼SW¼NW¼.

The area described contains 5.0 acres in Cibola County.

La Mosca Peak Electronic Site, New Mexico Principal Meridian

T. 20 N., R. 7 E.,

Sec. 20, SW¼SW¼NW¼NE¼, W½W½SW¼NE¼, S½NW¼NE¼NW¼, SW¼NE¼NW¼, NW¼SE¼NE¼NW¼, S½SE¼NE¼NW¼, NE¼SE¼NW¼, N½NW¼SE¼NW¼, NW¼NW¼SE¼, and N½N½SW¼NW¼SE¼.

The area described contains 62.5 acres in Cibola County.

For a period of 90 days from the date of publication of this notice, all persons who wish to submit comments, suggestions, or objections in connection with the proposed withdrawal may present their views in writing to the Cibola National Forest Supervisor at the above address.

Notice is hereby given that an opportunity for a public meeting is afforded in connection with the proposed withdrawal. All interested persons who desire a public meeting for the purpose of being heard on the proposed withdrawal must submit a written request to the Cibola National Forest Supervisor, at the above address, within 90 days from the date of publication of this notice. Upon determination by the authorized officer that a public meeting will be held, a notice of the time and place will be published in the Federal Register at least 30 days before the scheduled date of the meeting.

The applications will be processed in accordance with the regulations set forth in 43 CFR 2300.

For a period of 2 years from the date of publication of this notice in the Federal Register, the lands will be segregated as specified above unless the applications are denied or canceled or the withdrawals are approved prior to that date. The temporary uses which will be permitted during this segregative period are land uses permitted by the Forest Service under existing laws and regulations including, but not limited to, construction and operation of the electronic sites.

Dated: November 6, 2001.
Steven W. Anderson,
Acting Albuquerque Field Manager.

[FR Doc. 01-30230 Filed 12-5-01; 8:45 am]

BILLING CODE 3410-11-P